DEPARTMENT OF TRANSPORTATION

Federal Aviation Administration

Notice of Passenger Facility Charge (PFC) Approvals and Disapprovals

AGENCY: Federal Aviation Administration (FAA), DOT.

ACTION: Monthly notice of PFC approvals and disapprovals. In April 2003, there were four applications approved. This notice also includes information on three applications, one approved in January 2003, and the other two approved in March 2003, inadvertently left off the January 2003 and March 2003 notices, respectively. Additionally, 11 approved amendments to previously approved applications are listed.

SUMMARY: The FAA publishes a monthly notice, as appropriate, of PFC approvals and disapprovals under the provisions of the Aviation Safety and Capacity Expansion Act of 1990 (Title IX of the Omnibus Reconciliation Act of 1990) (Pub. L. 101-508) and Part 158 of the Federal Aviation Regulations (14 CFR part 158). This notice is published pursuant to paragraph d of § 158.29.

PFC Applications Approved

Public Agency: Albany-Dougherty Aviation Commission, Albany, Georgia.

Application Number: 03-03-C-00-ABY.

Application Type: Impose and use a PFC.

PFC Level: $4.50.

Total PFC Revenue Approved in This Decision: $454,849.

Earliest Charge Effective Date: August 1, 2003.

Estimated Charge Expiration Date: July 1, 2006.

Class of Air Carriers Not Required To Collect PFC's: Air taxi/commercial operators.

Determination: Approved. Based on information submitted in the public agency's application, the FAA has determined that the proposed class accounts for less than 1 percent of the total annual enplanements at Southwest Georgia Regional Airport.

Brief Description of Projects Approved for Collection and Use:

Install airfield fencing and replace locks.

Baggage claim enclosure.

Terminal environmental (phase I) update air handlers.

PFC application charges.

Construct air cargo apron—phases I and II (design).

Install runway visual guidance system.

Purchase rapid response aircraft rescue and firefighting (ARFF) vehicle and ARFF generator.

Construct air cargo apron—phases I and II.

Decision Date: January 31, 2003.

For Further Information Contact: Philip Cannon, Atlanta Airports District Office, (404) 305-7152.

Public Agency: Monterey Peninsula Airport District, Monterey, California.

Application Number: 03-09-C-00-MRY.

Application Type: Impose and use a PFC.

PFC Level: $4.50.

Total PFC Revenue Approved in This Decision: $688,938.

Earliest Charge Effective Date: July 1, 2003.

Estimated Charge Expiration Date: June 1, 2004.

Class of Air Carriers Not Required To Collect PFC's: Unscheduled Part 135 air taxi operators.

Determination: Approved. Based on information submitted in the public agency's application, the FAA has determined that the proposed class accounts for less than 1 percent of the total annual enplanements at Monterey Peninsula Airport.

Brief Description of Projects Approved for Collection and Use:

Access security control.

Extension of fire alarm system to safety building.

Acquisition of property at 2825 Salinas/Monterey Highway.

Passback security system.

Terminal improvements and modifications.

Terminal fire door replacements, phase 2.

Generator power to security gate, phase 2.

Terminal expansion—second level.

Environmental impact report—airport roadway circulation projects (terminal road, north access road, and 28L service road).

Decision Date: March 28, 2003.

For Further Information Contact: Marlys Vandervelde, San Francisco Airports District Office, (650) 876-2806.

Public Agency: City of St. George, Utah.

Application Number: 03-03-C-00-SGU.

Application Type: Impose and use a PFC.

PFC Level: $4.50.

Total PFC Revenue Approved in This Decision: $1,354,902.

Earliest Charge Effective Date: June 1, 2003.

Estimated Charge Expiration Date: October 1, 2011.

Class of Air Carriers Not Required To Collect PFC'S: Non-scheduled, on-demand air carriers filing FAA Form 1800-31.

Determination: Approved. Based on information submitted in the public agency's application, the FAA has determined that the proposed class accounts for less than 1 percent of the total annual enplanements at St. George Municipal Airport.

Brief Description of Projects Approved for Collection and Use:

Acquire ARFF vehicle.

Acquire a self-contained regenerative air airfield sweeper.

ARFF building improvements.

Replacement airport planning.

Replacement airport environmental impact statement.

Replacement airport phase II environmental impact statement.

Brief Description of Project Approved for Collection and Use: Construct replacement airport.

Decision Date: March 31, 2003.

For Further Information Contact: Christopher Schaffer, Denver Airports District Office, (303) 342-1258.

Public Agency: County of Houghton, Hancock, Michigan.

Application Number: 03-09-C-00-CMX.

Application Type: Impose and use a PFC.

PFC Level: $3.00.

Total PFC Revenue Approved in This Decision: $104,266.

Earliest Charge Effective Date: October 1, 2005.

Estimated Charge Expiration Date: May 1, 2007.

Class of Air Carriers Not Required To Collect PFC'S: None.

Brief Description of Projects Approved for Collection and Use:

Snow removal equipment, 4 by 4 pickup truck with plow.

Access road lighting.

Airport directional signage and entrance road sign.

New electrical service to ARFF building.

Public address system rehabilitation in passenger terminal.

Terminal landside entrance rehabilitation.

Airport terminal apron pavement crack sealing.

Terminal airside entrance rehabilitation.

Thermal imaging cameras.

Unicom radio procurement.

Brick screen wall.

Runway 13 protection zone hazard removal.

PFC application preparation reimbursement.

Wildlife control/security fencing with perimeter road.

Snow removal equipment procurement, multi-purpose tractor with power broom.

Terminal bathroom rehabilitation.

Decision Date: April 1, 2003.

For Further Information Contact: Arlene B. Draper, Detroit Airports District Office, (734) 487-7282.

Public Agency: Burbank-Glendale-Pasadena Airport Authority, Burbank, California.

Application Number: 03-05-C-00-BUR.

Application Type: Impose and use a PFC.

PFC Level: $4.50.

Total PFC Revenue Approved in This Decision: $17,509,405.

Earliest Charge Effective Date: January 1, 2008.

Estimated Charge Expiration Date: November 1, 2009.

Class of Air Carriers Not Required To Collect PFC's: Nonscheduled/on-demand air carriers filing FAA Form 1800-31.

Determination: Approved. Based on information submitted in the public agency's application, the FAA has determined that the proposed class accounts for less than 1 percent of the total annual enplanements at Burbank-Glendale-Pasadena Airport.

Brief Description of Project Approved for Collection and Use: Terminal security enhancements.

Decision Date: April 11, 2003.

For Further Information Contact: Ruben Cabalbag, Western Pacific Region Airports Division, (310) 725-3630.

Public Agency: City of Greenville, Mississippi.

Application Number: 03-03-I-00-GLH.

Application Type: Impose a PFC.

PFC Level: $3.00.

Total PFC Revenue Approved in This Decision: $88,495.

Earliest Charge Effective Date: August 1, 2003.

Estimated Charge Expiration Date: June 1, 2006.

Class of Air Carriers Not Required To Collect PFC's: Air tax/commercial operators.

Determination: Approved. Based on information submitted in the public agency's application, the FAA has determined that the proposed class accounts for less than 1 percent of the total annual enplanements at Mid-Delta Regional Airport.

Brief Description of Projects Approved for Collection:

Terminal area drainage improvement and parking lot reloation.

Rehabilitate runway 9/27 and convert to taxiway.

Terminal building fire escape stairwell.

Decision Date: April 11, 2003.

For Further Information Contact“ Patrick D. Vaught, Jackson Airports District Office, (601) 664-9885.

Public Agency: Port of Chelan County and Port of Douglas County, Wenathee, Washington.

Application Number: 03-04-C-00-EAT.

Application Type: Impose and use a PFC.

PFC Level: $4.50.

Total PFC Revenue Approved in This Decision: $123,500.

Earliest Charge Effective Date: May 1, 2003.

Estimated Charge Expiration Date: June 1, 2004.

Class of Air Carriers Not Required To Collect PFC's:

None.

Brief Description of Projects Approved for Collection and Use:

Phase II pavement overlay—taxiway G slurry seal.

Equipment garage.

Security fencing.

Acquire vacuum runway sweeper.

Acquire curb sweeper.

Segmented circle and wind tee.

Update master plan.

Runway snow blower.

Decision Date: April 25, 2003.

For Further Information Contact: Suzanne Lee-Pang, Seattle Airports District Office, (425) 227-2654.

Amendments to PFC Approvals
Amendment No. city, state | Amendment approved date | Original approved net PFC revenue | Amended approved net PFC revenue | Original estimated charge exp. date | Amended estimated charge exp. date
93-01-C-04-MRY, Monterey, CA | 03/21/03 | $4,077,754 | $4,104,131 | 10/01/00 | 10/01/00
00-06-C-01-MRY, Monterey, CA | 03/21/03 | 335,031 | 376,338 | 10/01/01 | 10/01/01
02-08-C-01-MRY, Monterey, CA | 03/21/03 | 320,122 | 341,066 | 05/01/03 | 07/01/03
*00-03-C-01-CSG, Columbus, GA | 04/01/03 | 1,251,387 | 1,251,387 | 11/01/04 | 11/01/04
99-04-C-01-PBI, West Palm Beach, FL | 04/02/03 | 18,933,000 | 11,999,332 | 12/01/00 | 03/01/01
93-01-C-01-MTJ, Montrose, CO | 04/04/03 | 1,461,745 | 1,422,535 | 02/01/09 | 08/01/03
92-01-C-04-STL, St. Louis, MO | 04/10/03 | 71,642,933 | 67,933,947 | 08/01/95 | 08/01/95
95-01-C-03-LYH, Lynchburg, VA | 04/18/03 | 296,723 | 185,940 | 08/01/98 | 07/01/96
00-02-C-01-LYH, Lynchburg, VA | 04/18/03 | 832,756 | 827,616 | 06/01/02 | 06/01/02
01-03-C-02-LYH, Lynchburg, VA | 04/18/03 | 705,654 | 705,654 | 06/01/05 | 06/01/05
00-01-C-02-VPS, Valparaiso, FL | 04/21/03 | 34,278,718 | 34,407,710 | 11/01/19 | 08/01/18
Note: The amendment denoted by an asterisk (*) includes a change to the PFC level charged from $3.00 per enplaned passenger to $4.50 per enplaned passenger. For Columbus, GA, this change is effective on June 1, 2003.

Issued in Washington, DC, on May 29, 2003.
Barry Molar,
Manager, Airports Financial Assistance Division.

[FR Doc. 03-14077 Filed 6-3-03; 8:45 am]

BILLING CODE 4910-13-M